DEPARTMENT OF TRANSPORTATION

Federal Aviation Administration

[DOT Docket Number: FAA-2022-0481]

NextGen Advisory Committee; Notice of Public Meeting

AGENCY: Federal Aviation Administration (FAA), Department of Transportation.

ACTION: Notice of public meeting.

SUMMARY: This notice announces a meeting of the NextGen Advisory Committee (NAC).

DATES: The meeting will be held virtually, on April 29, 2022, from 8:00 a.m.-5:00 p.m. ET. Requests to attend the meeting virtually and request for accommodations for a disability must be received by April 22, 2022. If you wish to submit a written statement to be included in the public record of the meeting, you must submit a written copy of your remarks by April 22, 2022.

ADDRESSES: This will be a virtual meeting. Virtual meeting information will be provided upon registration. Information on the NAC, including copies of previous meeting minutes, is available on the NAC internet website at https://www.faa.gov/about/office_org/headquarters_offices/ang/nac/. Members of the public interested in attending must send the required information listed in the SUPPLEMENTARY INFORMATION section to 9-AWA-ANG-NACRegistration@faa.gov.

FOR FURTHER INFORMATION CONTACT: Kimberly Noonan, NAC Coordinator, U.S. Department of Transportation, at Kimberly.Noonan@faa.gov or 202-267-3760. Any requests or questions not regarding attendance registration should be sent to the person listed in this section.

SUPPLEMENTARY INFORMATION:

I. Background

The Secretary of Transportation established the NAC under agency authority in accordance with the provisions of the Federal Advisory Committee Act (FACA), as amended, Public Law 92-463, 5 U.S.C. app. 2, to provide independent advice and recommendations to the FAA, and to respond to specific taskings received directly from the FAA. The NAC recommends consensus-driven advice for FAA consideration relating to Air Traffic Management System modernization.

II. Agenda

At the meeting, the agenda will cover the following topics:

• NAC Chairman's Report

• FAA Report

• NAC Chairman Closing Comments

The detailed agenda will be posted on the NAC internet website at least one week in advance of the meeting.

III. Public Participation

This virtual meeting will be open to the public. Members of the public who wish to attend are asked to register via email by submitting their full legal name, country of citizenship, contact information (telephone number and email address), and name of your industry association or applicable affiliation. Please email this information to the email address listed in the ADDRESSES section. When registration is confirmed, registrants will be provided the virtual meeting information/teleconference call-in number and passcode. Callers are responsible for paying associated long-distance charges (if any).

Note: Only NAC Members, and NAC working groups and FAA staff who are providing briefings will have the ability to speak. All other attendees will be able to listen only.

The U.S. Department of Transportation is committed to providing equal access to this meeting for all participants. If you need alternative formats or services because of a disability, please contact the person listed in the FOR FURTHER INFORMATION CONTACT section.

The FAA is not accepting oral presentations at this meeting due to time constraints. Written statements submitted by the deadline will be provided to the NAC members before the meeting. Any member of the public may submit a written statement to the committee at any time.

Signed in Washington, DC, this 8 day of April 2022.
Kimberly Noonan,
Manager, Stakeholder and Collaboration Division (A), NextGen Office of Collaboration and Messaging, ANG-M, Office of the Assistant Administrator for NextGen, Federal Aviation Administration.

[FR Doc. 2022-07939 Filed 4-12-22; 8:45 am]

BILLING CODE 4910-13-P